SMALL BUSINESS ADMINISTRATION

[Disaster Declaration # 10817]

Oregon Disaster # OR-00017

AGENCY: U.S. Small Business Administration.

ACTION: Notice.

SUMMARY: This is a Notice of the Presidential declaration of a major disaster for Public Assistance Only for the State of Oregon (FEMA-1683-DR), dated 02/22/2007.

Incident: Severe Winter Storm and Flooding.

Incident Period: 12/14/2006 through 12/15/2006.

Effective Date: 02/22/2007.

Physical Loan Application Deadline Date: 04/23/2007.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416

SUPPLEMENTARY INFORMATION: Notice is hereby given that as a result of the President's major disaster declaration on 02/22/2007, Private Non-Profit organizations that provide essential services of a governmental nature may file disaster loan applications at the address listed above or other locally announced locations.

The following areas have been determined to be adversely affected by the disaster:

Primary Counties: Benton, Clatsop Columbia, Lincoln, Polk, Tillamook, Wheeler, Yamhill, Confederated Tribes Of The Siletz Indians

The Interest Rates are:

| Percent
Other (Including Non-Profit Organizations) With Credit Available Elsewhere | 5.250
Businesses And Non-Profit Organizations Without Credit Available Elsewhere | 4.000

The number assigned to this disaster for physical damage is 10817.

(Catalog of Federal Domestic Assistance Number 59008)

Herbert L. Mitchell,
Associate Administrator for Disaster Assistance.

[FR Doc. E7-3710 Filed 3-1-07; 8:45 am]

BILLING CODE 8025-01-P